DEPARTMENT OF VETERANS AFFAIRS

[OMB Control No. 2900-0178]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to the notice. This notice solicits comments on the information needed to determine a claimant's continuing eligibility for education benefits.

DATES: Written comments and recommendations on the proposed collection of information should be received on or before May 16, 2000.

ADDRESSES: Submit written comments on the collection of information to Nancy J. Kessinger, Veterans Benefits Administration (20S52), Department of Veterans Affairs, 810 Vermont Avenue, NW, Washington, DC 20420. Please refer to “OMB Control No. 2900-0178” in any correspondence.

FOR FURTHER INFORMATION CONTACT: Nancy J. Kessinger at (202) 273-7079 or FAX (202) 275-5947.

SUPPLEMENTARY INFORMATION: Under the PRA of 1995 (Pub. L. 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Monthly Certification of On-the-Job and Apprenticeship Training, VA Form 22-6553d. (NOTE: A reference to VA Form 22-6553d also includes VA Form 22-6553d-1 unless otherwise specified. VA Form 22-6553d-1 contains the same information as VA Form 22-6553d.)

OMB Control Number: 2900-0178.

Type of Review: Extension of a currently approved collection.

Abstract: The form is used by trainees and employers to report the number of hours worked in on-the-job training programs and apprenticeships, and to report terminations of training in such programs. VA uses the information to determine whether a trainee's education benefits are to be continued, changed or terminated, and the effective date of such action. VA is authorized to pay education benefits to veterans and other eligible persons pursuing approved programs not leading to a standard college degree under Title 38, U.S.C., Chapters 32 and 35, Title 10, U.S.C., Chapter 1606, and Public Law 96-342, Section 903. Benefits are authorized monthly based upon the number of hours worked by the trainee and verified by the training establishment. Unscheduled terminations result in termination of the award of benefits. Reduction of hours worked to less than a full-time work schedule results in reduction of benefits. The form is completed by the trainee and the training establishment to report to VA the number of hours worked and/or to report the date of termination.

Affected Public: Individuals or households, business or other for-profit, not-for-profit institutions, and State, Local or Tribal Government.

Estimated Annual Burden: 15,975 hours.

Estimated Average Burden Per Respondent: 10 minutes.

Frequency of Response: Monthly.

Estimated Number of Respondents: 10,650.

Number of Responses Annually: 95,850

Dated: February 16, 2000.
By direction of the Secretary.
Donald L. Neilson,
Director, Information Management Service.

[FR Doc. 00-6645 Filed 3-16-00; 8:45 am]

BILLING CODE 8320-01-P